Title 3—

The President

Presidential Determination No. 2009-10 of January 1, 2009

Waiver of Reimbursement Under the United Nations Participation Act to Support the United Nations/African Union Mission in Darfur

Memorandum for the Secretary of State

By the authority vested in me as President by the Constitution and the laws of the United States of America, including section 10(d)(1) of the United Nations Participation Act of 1945, as amended (22 U.S.C. 287e-2(d)(1)), I hereby determine that provision of assistance to the United Nations/African Union Mission in Darfur to support the airlift of equipment for peacekeeping in Darfur without reimbursement from the United Nations is important to the security interests of the United States.

You are authorized and directed to report this determination to the Congress and to arrange for its publication in the Federal Register.

THE WHITE HOUSE,

Washington, January 1, 2009

[FR Doc. E9-598

Filed 1-12-09; 8:45 am]

Billing code 4710-10-P